DEPARTMENT OF ENERGY

Federal Energy Regulatory Commission

Combined Notice of Filings #2

Take notice that the Commission received the following electric rate filings:

Docket Numbers: ER10-1945-004; ER10-1944-003; ER10-2051-004; ER10-1942-011; ER10-2042-016; ER14-2931-001; ER10-1941-006; ER11-3840-004; ER10-2043-004; ER10-2029-006; ER10-2041-004; ER10-2040-004; ER10-2039-004; ER10-1938-011; ER10-2036-005; ER13-1407-003; ER10-1934-010; ER10-1893-010; ER10-1889-003; ER10-1888-006; ER10-1885-006; ER10-1884-006; ER10-1883-006; ER10-1878-006; ER10-1877-003; ER10-1895-003; ER10-1876-006; ER10-1875-006; ER10-1874-002; ER10-1873-006; ER10-1871-004; ER10-1870-003; ER12-1987-004; ER13-1406-002; ER10-1947-006; ER12-2645-001; ER10-1863-003; ER10-1862-010; ER10-1933-002; ER12-2261-004; ER10-1865-006; ER10-1858-003; ER13-1401-002; ER10-2044-004

Applicants: Auburndale Peaker Energy Center, LLC, Bethpage Energy Center 3, LLC, Calpine Bethlehem, LLC, Calpine Construction Finance Co., L.P., Calpine Energy Services, L.P., Calpine Fore River Energy Center, LLC, Calpine Gilroy Cogen, L.P., Calpine Greenleaf, Inc., Calpine Mid-Atlantic Generation, LLC, Calpine Mid-Atlantic Marketing, LLC, Calpine Mid Merit, LLC, Calpine New Jersey Generation, LLC, Calpine Newark, LLC, Calpine Power America—CA, LLC, Calpine Vineland Solar, LLC, CCFC Sutter Energy, LLC, CES Marketing IX, LLC, CES Marketing X, LLC, CPN Bethpage 3rd Turbine, Inc., Creed Energy Center, LLC, Geysers Power Company LLC, Gilroy Energy Center, LLC, Goose Haven Energy Center, LLC, Hermiston Power, LLC, KIAC Partners, Los Esteros Critical Energy Facility LLC, Los Medanos Energy Center, LLC, Mankato Energy Center, LLC, Metcalf Energy Center, LLC, Morgan Energy Center, LLC, Nissequogue Cogen Partners, O.L.S. Energy-Agnews, Inc., Osprey Energy Center, LLC, Otay Mesa Energy Center, LLC, Pastoria Energy Facility L.L.C., Pine Bluff Energy, LLC, Power Contract Financing, L.L.C., RockGen Energy LLC, Russell City Energy Company, LLC, South Point Energy Center, LLC, TBG Cogen Partners, Westbrook Energy Center, LLC, Zion Energy LLC, Delta Energy Center, LLC.

Description: Notification of Change in Status of the Calpine Southeast MBR Sellers.

Filed Date: 12/5/14.

Accession Number: 20141205-5349.

Comments Due: 5 p.m. ET 12/26/14.

Docket Numbers: ER15-599-000.

Applicants: Southwest Power Pool, Inc.

Description: § 205(d) rate filing per 35.13(a)(2)(iii): 2562R2 Kansas Municipal Energy Agency NITSA and NOA to be effective 8/1/2014.

Filed Date: 12/8/14.

Accession Number: 20141208-5139.

Comments Due: 5 p.m. ET 12/29/14.

Docket Numbers: ER15-600-000.

Applicants: ISO New England Inc., New England Power Pool Participants Committee.

Description: § 205(d) rate filing per 35.13(a)(2)(iii): Information Policy Clean-up Changes to be effective 2/9/2015.

Filed Date: 12/8/14.

Accession Number: 20141208-5226.

Comments Due: 5 p.m. ET 12/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2014.
Nathaniel J. Davis, Sr.,
Deputy Secretary.

[FR Doc. 2014-29210 Filed 12-12-14; 8:45 am]

BILLING CODE 6717-01-P